ENVIRONMENTAL PROTECTION AGENCY

[OW-2003-0064, FRL-7544-6]

Agency Information Collection Activity: Proposed Collection; Comment Request; Questionnaire for Nominees for the Annual National Clean Water Act Recognition Awards Program, EPA ICR 1287.06, OMB Control Number 2040-0101

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on February 29, 2004. Before submitting the ICR to OMB for review and approval, EPA is soliciting comments on specific aspects of the proposed information collection as described below.

DATES: Comments must be submitted on or before October 14, 2003.

ADDRESSES: Submit your comments, referencing docket ID number OW-2003-0064, to EPA online using EDOCKET (our preferred method), by e-mail to ow-docket@epa.gov, or by mail to: EPA Docket Center, Environmental Protection Agency, Office of Water Docket, MC 4101-T, 1200 Pennsylvania Ave., NW., Washington, DC 20460.

FOR FURTHER INFORMATION CONTACT: Maria E. Campbell, Municipal Assistance Branch, MC 4204-M, Environmental Protection Agency, 1200 Pennsylvania Ave., NW., Washington, DC 20460; telephone number: 202-564-0628; fax number: 202-501-2396; e-mail address: campbell.maria@epa.gov.

SUPPLEMENTARY INFORMATION: EPA has established a public docket for this ICR under Docket ID number OW-2003-0064, which is available for public viewing at the Office of Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statue. When EPA identifies a comment containing copyrighted material, EPA will provide a reference to that material in the version of the comment that is placed in EDOCKET. The entire printed comment, including copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are public wastewater treatment plants, municipalities, industries, universities, manufacturing sites and States.

Title: Questionnaire for Nominees for the Annual National Clean Water Act Recognition Awards Program.

Abstract: This ICR requests re-approval to collect data from EPA's National Clean Water Act Recognition Awards nominees. The awards are for the following program categories: Operations and Maintenance (O&M) Excellence, Biosolids (Biosolids) Management Excellence, Combined Sewer Overflow Control (CSO) Program Excellence and Storm Water (SW) Management Excellence.

Note: Information collection approval for the Pretreatment Awards Program is included in the National Pretreatment Program ICR (OMB No. 2040.0009, EPA ICR No. 0002.09), approved through September 30, 2003. The National Clean Water Act Recognition Awards Program is managed by EPA's Office of Wastewater Management (OWM). The Awards Program is authorized under Section 501(e) of the Clean Water Act, as amended. The Awards Program is intended to provide recognition to municipalities and industries which have demonstrated outstanding technological achievements, innovative processes, devices or other outstanding methods in their waste treatment and pollution abatement programs. Approximately 50 awards are presented annually. The achievements of these award winners are summarized in reports, news articles, national publications, and Federal Register Notice.

Submission of information on behalf of the respondents is voluntary. No confidential information is requested. The Agency only collects information from award nominees under a currently valid OMB control number. The OMB control numbers for EPA's regulations are listed in 40 CFR part 9 and 48 CFR chapter 15. An agency may not conduct or sponsor, and a person is not required to respond to, a collection of information unless it displays a currently valid OMB control number. The OMB control numbers for EPA's regulations in 40 CFR are listed in 40 CFR part 9. Based on the data collection, national panels will evaluate the nominees' efforts and recommend finalists. The collections will be used by the respective awards programs to evaluate and determine which abatement achievements should be recognized. A regulation in the Federal Register on February 8, 2002, (67 FR 6138, February 8, 2002) establishes a framework for the annual Clean Water Act Recognition Awards.

As currently structured, the O&M awards category has nine sub-categories which recognize municipal achievements. The biosolids awards category has four sub-categories which recognize municipal biosolids operations, technology and research achievements, and public acceptance; the CSO awards category has one sub-category which recognizes municipal programs; and the SW awards category has two sub-categories which recognize municipal and industrial programs. All nominees are screened for environmental compliance by the States and EPA. Municipalities and institutions desiring to be considered for National awards voluntarily complete the questionnaires and provide design and operating information about their facility or programs. The award nominations are reviewed by State/Regional officials prior to forwarding them for National award consideration. At the National level, award reviews involve Federal officials and review panels comprised of representatives of EPA, State water pollution control agencies and affiliated associations.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information to be collected; and

(iv) Minimize the burden of the collection of information on those who are to respond, including through the use of appropriate automated electronic, mechanical, or other technological collection techniques or other forms of information technology, e.g., permitting electronic submission of responses.

Burden Statement: The information is collected from approximately 200 respondents at a total cost of $89,600 per year and 2800 burden hours, including $52,200 and 1600 burden hours for the respondents' time, and $37,400 and 1200 burden hours for the States' review time. Burden means the total time, effort or financial resources expended by persons to generate, maintain, retain, or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose information.

Dated: August 6, 2003.
Jane S. Moore,
Acting Director, Office of Wastewater Management.

[FR Doc. 03-20781 Filed 8-13-03; 8:45 am]

BILLING CODE 6560-50-P